DEPARTMENT OF JUSTICE

Office of Community Oriented Policing Services; Agency Information Collection Activities: Proposed Collection; Comment Request

ACTION: Request OMB emergency approval; COPS School-Based Partnership Implementation Report.

The Department of Justice, Office of Community Oriented Policing Services (COPS) has submitted the following information collection request utilizing emergency review procedures, to the Office of Management and Budget (OMB) for review and clearance in accordance with the Paperwork Reduction Act of 1995. OMB approval has been requested by August 23, 2000. If granted, the emergency approval is only valid for 180 days.

During the first 60 days of this same period a regular review of this information collection is also being undertaken. In addition to comments and/or questions pertaining to this pending request for emergency approval, written comments and suggestions from the public and affected agencies concerning the proposed collection of information are encouraged and will be accepted for 60 days from the date listed at the top of this page in the Federal Register.

Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Written comments and/or suggestions regarding the items contained in this notice, especially regarding the emergency approval request, estimated public burden and associated response time, should be directed to the COPS Office, PPSE Division, 1100 Vermont Ave., NW., Washington, DC 20530-0001; Attn: Matthew Scheider. Additionally, comments may be submitted to COPS via facsimile to 202-633-1386, Attn: Matthew Scheider. Comments may also be submitted to the Department of Justice (DOJ), Justice Management Division, Information Management and Security Staff, Attn: Department Deputy Clearance Officer, National Place, Suite 1220, 1331 Pennsylvania Avenue, NW., Washington, DC 20530.

Overview of this information collection

(1) Type of Information Collection: New collection.

(2) Title of the Form/Collection: COPS School-Based Partnership Implementation Report.

(3) Agency form number, if any, and the applicable component of the Department of Justice sponsoring the collection: Form: COPS PPSE/04. Office of Community Oriented Policing Services, U.S. Department of Justice.

(4) Affected public who will be asked or required to respond, as well as a brief abstract: Approximately 500 grant project coordinators, school administrators, and school resource officers, who have participated in the implementation of a COPS School-Based Partnership '98 grant project, will be asked to respond. The COPS School-Based Partnership Report will allow the COPS office to collect information from COPS School-Based Partnership '98 grantees on the implementation of collaborative problem-solving techniques used to address crime and disorder in and around schools. The COPS office will use the information collected to examine the processes undertaken by SBP grantees in implementing collaborative problem-solving techniques. A report of these findings will identify lessons learned and will provide recommendations to policing agencies and schools seeking to implement similar problem-solving partnerships.

(5) An estimate of the total number of respondents and the amount of time estimated for an average respondent to respond: Surveys will be administered by mail to approximately 500 project coordinators, school administrators, and school resource officers, who have participated in the implementation of a COPS School-Based Partnership '98 grant project. Survey completion will take approximately 0.25 hours per respondent (there is no recordkeeping burden for this collection).

(6) An estimate of the total public burden (in hours) associated with the collection: Approximately 125 hours.

If additional information is required contact: Mrs. Brenda E. Dyer, Deputy Clearance Officer, United States Department of Justice, Information Management and Security Staff, Justice Management Division, National Place, Suite 1220, 1331 Pennsylvania Avenue, NW., Washington, DC 20530.

Dated: August 8, 2000.
Brenda E. Dyer,
Department Clearance Officer, Department of Justice.

[FR Doc. 00-20613 Filed 8-14-00; 8:45 am]

BILLING CODE 4410-AT-M